COMMODITY FUTURES TRADING COMMISSION

17 CFR Part 146

Privacy Act of 1974; Implementation

AGENCY: Commodity Futures Trading Commission.

ACTION: Final rule.

SUMMARY: The Commission is amending its rule to require biennial rather than annual publication of the agency's Privacy Act notice of the existence and character of each of its systems of records to conform to OMB requirements.

DATES: Effective on September 5, 2000.

FOR FURTHER INFORMATION CONTACT: Stacy Dean Yochum, Counsel to the Executive Director, (202) 418-5157, Commodity Futures Trading Commission, Three Lafayette Centre, 1155 21st Street, NW., Washington, DC 20581, syochum@cftc.gov.

SUPPLEMENTARY INFORMATION: In 1996, OMB incorporated guidance to agencies on implementing the reporting and publication requirements of the Privacy Act into Appendix I to OMB Circular A-130 (61 FR 6428, February 20, 1996). OMB revised Appendix 1, changing the annual requirement to review recordkeeping practices, training, violations and notices under the Privacy Act to a biennial review. To conform the review and publication of its system of records to OMB requirements, the Commission is amending § 146.11(a) to require biennial rather than annual publication of the Commission's systems of records under the Privacy Act.

Administrative Procedure Act

The Commission has determined that the Administrative Procedure Act, 5 U.S.C. 553, does not require notice of proposed rulemaking and an opportunity for public participation in connection with this amendment. In this regard, the Commission notes that such notice and opportunity for comment is unnecessary because this amendment is related solely to agency organization, procedure and practice and conforms the Commission rules to earlier amendments to the Privacy Act. Accordingly, the Commission finds good cause to make this amendment effective immediately upon publication in the Federal Register. 5 U.S.C. 553(b)(B).

List of Subjects in 17 CFR Part 146

Privacy; Reporting and recordkeeping requirements.

In consideration of the foregoing, and pursuant to the authority contained in the Commodity Exchange Act, in particular, section 2(a)(11), the Commission amends Chapter I of Title 17, part 146 of the Code of Federal Regulations as follows:

PART 146—RECORDS MAINTAINED ON INDIVIDUALS

1. The authority for Part 146 is revised to read as follows:

Authority: 88 Stat. 1896 (5 U.S.C. 552a), as amended; 88 Stat. 1389 (7 U.S.C. 4a(j)).

2. Revise § 146.11, paragraph (a), introductory text, to read as follows:

§ 146.11 Public notice of records system.

(a) The Commission will publish in the Federal Register at least biennially a notice of the existence and character of each of its systems of records, which notice shall include—

* * * * *

Issued in Washington, DC on August 29, 2000, by the Commission.
Jean Webb,
Secretary of the Commission.

[FR Doc. 00-22557 Filed 9-1-00; 8:45 am]

BILLING CODE 6351-01-M